DEPARTMENT OF HEALTH AND HUMAN SERVICES

Administration for Strategic Preparedness and Response

Request for Information on Hospital Preparedness Program Funding Formula

Correction

In Notice document 2024-28740, appearing on pages 97014-97015 in the issue of Friday, December 6, 2024, make the following correction:

On page 97015, the figure is corrected to appear as set forth below:

[FR Doc. C1-2024-28740 Filed 12-20-24; 8:45 am]

BILLING CODE 0099-10-P